DEPARTMENT OF HEALTH AND HUMAN SERVICES

Centers for Disease Control and Prevention

Science and Program Review Subcommittee (SPRS) and the Advisory Committee for Injury Prevention and Control (ACIPC): Meetings

In accordance with section 10(a)(2) of the Federal Advisory Committee Act (Pub. L. 92-463), the Centers for Disease Control and Prevention (CDC) announces the following subcommittee and committee meetings.

Name: Science and Program Review Subcommittee to ACIPC.

Time and Date: 8:15 a.m.-12:15 p.m., November 6, 2002.

Place: Sheraton Colony Square Hotel Midtown Atlanta, 188 14th Street, NE, Atlanta, Georgia 30361.

Status: Open to the public, limited only by the space available.

Purpose: The Subcommittee provides advice on the needs, structure, progress and performance of the National Center for Injury Prevention and Control (NCIPC) programs. The Subcommittee provides second-level scientific and programmatic review for applications for research grants, cooperative agreements, and training grants related to injury control and violence prevention, and recommends approval of projects that merit further consideration for funding support. The Subcommittee also advises on priorities for research to be supported by contracts, grants, and cooperative agreements and provides concept review of program proposals and announcements.

Matters to be Discussed: Agenda items of the Subcommittee oversight meeting include presentations and discussions on the fiscal year 2001 and 2002 NCIPC research budget; enhancing relationships between extramural researchers and NCIPC staff; policies on mid-course reviews of Injury Control Research Centers (ICRCs); and length of ICRC research projects. Following the oversight meeting, the Subcommittee will conduct an acute care workshop in which several researchers will present current projects that have been funded in the acute care area. The discussions that occur in the workshop will have relevance to the agenda for the full ACIPC meeting that follows.

Name: Advisory Committee for Injury Prevention and Control.

Time and Dates: 1:30 p.m.-6 p.m., November 6, 2002. 8 a.m.-3 p.m., November 7, 2002.

Place: Sheraton Colony Square Hotel Midtown Atlanta, 188 14th Street, NE, Atlanta, Georgia 30361.

Status: Open to the public, limited only by the space available.

Purpose: The Committee advises and makes recommendations to the Secretary, Health and Human Services, the Director, CDC, and the Director, NCIPC, regarding feasible goals for the prevention and control of injury. The Committee makes recommendations regarding policies, strategies, objectives, and priorities, and reviews progress toward injury prevention and control. The Committee provides advice on the appropriate balance of intramural and extramural research, and also provides guidance on the needs, structure, progress and performance of intramural programs, and on extramural scientific program matters. The Committee provides second-level scientific and programmatic review for applications for research grants, cooperative agreements, and training grants related to injury control and violence prevention, and recommends approval of projects that merit further consideration for funding support. The Committee also recommends areas of research to be supported by contracts and cooperative agreements and provides concept review of program proposals and announcements.

Matters to be Discussed: Agenda items include reports from the Science and Program Review Subcommittee and Family and Intimate Violence Prevention Subcommittee; an update on CDC's preparedness efforts; an update on unintentional poisoning in North Carolina; fatal intimate partner violence, Ft. Bragg, North Carolina, 2002; an introduction to the issue of the public health role in acute care for injury prevention and control; NCIPC activities in acute care; presentations on acute care from representatives of professional medical organizations, including emergency medical services, emergency medicine, and trauma medicine specialists, which will provide ACIPC members with an overview of the state of trauma care in the United States and identify gaps that need to be filled; discussion of possible NCIPC contributions to acute care for injury; and NCIPC's 10th Anniversary celebrations and follow-up plan.

Agenda items are subject to change as priorities dictate.

Contact Person for More Information: Ms. Louise Galaska, Executive Secretary, ACIPC, NCIPC, CDC, 4770 Buford Highway, NE, M/S K02, Atlanta, Georgia 30341-3724, telephone (770) 488-4694.

The Director, Management Analysis and Services Office, has been delegated the authority to sign Federal Register notices pertaining to announcements of meetings and other committee management activities, for both the Centers for Disease Control and Prevention and the Agency for Toxic Substances and Disease Registry.

Dated: October 10, 2002.
Burma Burch,
Acting Director, Management Analysis and Services Office, Centers for Disease Control and Prevention.

[FR Doc. 02-26379 Filed 10-16-02; 8:45 am]

BILLING CODE 4163-18-P